DEPARTMENT OF THE INTERIOR

National Park Service

Notice of Availability of the Final Environmental Impact for the General Management Plan, Rock Creek Park, and the Rock Creek and Potomac Parkway

AGENCY: National Park Service, Department of the Interior.

ACTION: Notice.

SUMMARY: Pursuant to the National Environmental Policy Act of 1969, 42 U.S.C. 4332(c), the National Park Service announces the availability of the Final Environmental Impact Statement for the General Management Plan, Rock Creek Park and the Rock Creek and Potomac Parkway (FEIS/GMP), a unit of the National Park System within the District of Columbia.

DATES: The FEIS/GMP will be made available to the public for review and comment until February 13, 2006. During the 60 day period the National Park Service will take no action and will accept further public comment on the final plan. A 90-day public review period took place on the Draft Environmental Impact Statement for the General Management Plan, Rock Creek Park and Rock Creek and Potomac Parkway (DEIS/GMP) from April 15 to July 15, 2003 (68 FR 12368). Responses to public comment are addressed in the FEIS/GMP.

ADDRESSES: The document will be available for public review at:

• Office of the Superintendent, Rock Creek Park, 3545 Williamsburg Lane, NW., Washington, DC 20008-1207;

• Office of the Chief of Planning, National Capital Region, National Park Service, 1100 Ohio Drive, SW., Washington, DC 20242, (202) 619-7277;

• Office of Public Affairs, National Park Service, Department of the Interior, 18th and C Streets, NW., Washington, DC 20240, (202) 208-6843;

• http://parkplanning.nps.gov

• http://www.nps.gov/rocr/pphtml/documents.html

SUPPLEMENTARY INFORMATION: The FEIS/GMP analyzes four alternatives for managing Rock Creek Park and the Rock Creek and Potomac Parkway. The plan is intended to provide a foundation to help park managers guide park programs and set priorities for the management of Rock Creek Park and the Rock Creek and Potomac Parkway for the next 15 to 20 years. The FEIS/GMP evaluates the environmental consequences of the preferred alternative and the other alternatives on natural and cultural resources, traditional park character and visitor experience, public health and safety, regional and local transportation and community character.

Alternative A, “Improved Management of Established Uses,” is the National Park Service's Preferred Alternative. Alternative A would improve visitor safety, better control traffic speeds through the park, enhance interpretation and education opportunities and improve the use of park resources, especially cultural resources. It generally retains the current scope of visitor uses. Traffic management within the park and parkway would be improved through the use of traffic calming devices, such as speed tables, and speed enforcement measures. The existing park roadway system would be retained and nonrecreational through-traffic would be accommodated. However, to improve visitor safety and the quality of the visitor's experience, traffic speeds would be reduced as compared to the No Action Alternative.

The “No Action” Alternative (Alternative B) is a continuation of the present management course of visitor use and resource protection.

Alternative C, “Non-motorized Recreation Emphasis,” would eliminate automobile traffic along much of the northern portion of Beach Drive and implement automobile traffic along much of the northern portion of Beach Drive and implement traffic-calming measures on the roads in the southern portion of the park and on the parkway. Management of resources other than traffic would be the same as in Alternative A.

Alternative D, “Mid-weekly Recreation Enhancement,” would eliminate automobile traffic along much of the northern part of Beach Drive from 9:30 a.m. to 3:30 p.m. on weekdays. Management of resources other than traffic would be the same as in Alternative A. Alternative D is the environmentally preferred alternative. In the DEIS/GMP, Alternative D was the National Park Service's preferred alternative. Following issuance of the DEIS/GMP, the National Park Service considered a proposal to create a variation called D-1, which would close Beach Drive from Broad Branch Road to Joyce Road during the same time as in Alternative D, but concluded this new variation was not needed since it was essentially contained in the existing Alternative D. As a result of the comments received from the public and government agencies as well as analysis of the scientific and regulatory components and review of the conclusions of the DEIS/GMP, the National Park Service's preferred alternative is now Alternative A.

You may submit your comments on the FEIS/GMP by any of several methods. Comments may be: Mailed to the Superintendent, Rock Creek Park, 3545 Williamsburg Lane NW., Washington, DC 20008-1207; e-mailed to rocr_superintendent@nps.gov; or submitted via an electronic link at http://parkplanning.nps.gov. Click on the link “Plans/Documents Open for Comment,” and follow that link to “Rock Creek Park GMP/EIS.”

Our practice is to make comments, including names and home addresses of respondents, available for public review during regular business hours. Individual respondents may request that we withhold their home address from the record, which we will honor to the extent allowable by law. There also may be circumstances in which we would withhold your name and/or address, you must state this prominently at the beginning of your comment. We will make all submissions from organizations or businesses, and from individuals identifying themselves as representatives or officials of organizations or businesses, available for public inspection in their entirety.

FOR FURTHER INFORMATION CONTACT: Superintendent, Rock Creek Park, 3545 Williamsburg Lane NW., Washington, DC 20008-1207, (202) 895-6004.

Dated: September 23, 2005.
Joseph M. Lawler,
Regional Director, National Capital Region.

[FR Doc. 05-23966 Filed 12-12-05; 8:45 am]

BILLING CODE 4312-52-M